DEPARTMENT OF LABOR

Employment and Training Administration

Proposed Information Collection for the Evaluation of the Aging Worker Initiative; Comment Request

AGENCY: Employment and Training Administration, Labor.

ACTION: Notice.

SUMMARY: The U.S. Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of information for Evaluation of the Aging Worker Initiative (AWI). The information collection will not be conducted until approved by OMB and it will display the OMB control number. There will be no penalty assessed for failure to respond to this approved information collection. A copy of the proposed information collection request can be obtained by contacting the office listed below in the ADDRESSES section of this notice.

DATES: Written comments must be submitted to the office listed in the addressee's section below on or before January 18, 2011.

ADDRESSES: Submit written comments to Charlotte Schifferes, Office of Policy Development and Research, Room N-5641, Employment and Training Administration, 200 Constitution Avenue, NW., Washington, DC 20210. Telephone number: 202-693-3655 (this is not a toll-free number). Fax: 202-693-2766. E-mail: schifferes.charlotte@dol.gov.

SUPPLEMENTARY INFORMATION:

I. Background

The proposed information collection is for an evaluation of 10 grants, totaling $13 million, which comprise the AWI. The AWI grants, provided to local agencies, are being used to test new occupational training and workforce services for workers aged 55 and older. The evaluation will examine implementation of the grants, document the types of interventions, assess attributes of these treatments, estimate their success in helping aging workers become or remain employed, and discuss the potential for implementation of various methods in the broader workforce system.

Office of Management and Budget (OMB) clearance of the information collection is needed since it will involve (1) two rounds of site visits with the ten grantees, (2) phone reconnaissance with the ten grantees, and (3) additional participant-level data, beyond what is needed for the OMB-approved quarterly and Common Measures reporting requirements for High Growth Job Training Grants (as required for the AWI grants). The additional data is needed to understand in greater detail the characteristics of participants, the services provided to them, and the linkages among different programs in providing services. Each grantee will also need to provide the participant data to the evaluation contractor on two occasions, using a secure FTP site or by CD, at the grantee's discretion.

II. Review Focus

The U.S. Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: New.

Agency: Employment and Training Administration.

Title: Evaluation of the Aging Worker Initiative Grants.

OMB Number: 1205-0NEW.

Record Keeping: NA.

Affected Public: Staff in local organizations administering the AWI grants; partner organizations (such as community colleges, local workforce agencies, and businesses); and individuals who apply for services under the AWI grants.

Total Respondents: 7,300.

Frequency: Varies according to type of respondent and the nature of the data collection; once for participants and twice for administrative personnel.

Total Annual Responses: Varies.

Average Time per Response: Varies as per type of data collected.

Estimated Total Burden Hours: 4,351 hours.

Total Burden Cost: The estimated total burden cost is $98,422 as shown below:

| Average number respondents per site | Total number respondents | Hours/ respondent | Total hours | Average cost/hour | Total cost
Round 1 site visit | 18 | 180 | 1.2 | 216 | $29.82 | $6,441
Round 2 site visit | 25 | 250 | 1.2 | 300 | 30.92 | 9,276
Data/MIS—participants | 685 | 6,850 | 0.5 | 3,425 | 20.25 | 69,356
Data/MIS—Grantee staff | 1 | 10 | 40.0 | 400 | 32.50 | 13,000
Telephone Reconnaissance | 1 | 10 | 1.0 | 10 | 34.94 | 349
Total | 730 | 7,300 |  | 4,351 |  | 98,422

Comments submitted in response to this comment request will be summarized and/or included in the request for OMB approval of the information collection request; they will also become a matter of public record.

Signed: At Washington, DC, this 15th day of November 2010.
Jane Oates,
Assistant Secretary, Employment and Training Administration.

[FR Doc. 2010-29202 Filed 11-18-10; 8:45 am]

BILLING CODE 4510-FN-P